DEPARTMENT OF HEALTH AND HUMAN SERVICES

National Institutes of Health

Center for Scientific Review; Amended Notice of Meeting

Notice is hereby given of a change in the meeting of the Center for Scientific Review Special Emphasis Panel, May 15, 2020, 12:00 p.m. to May 15, 2020, 07:00 p.m., National Institutes of Health, Rockledge II, 6701 Rockledge Drive, Bethesda, MD 20892 which was published in the Federal Register on April 16, 2020, 85 FR 21255.

This notice is being amended to change the meeting date from May 15, 2020 to May 14, 2020 and the start time from 12:00 p.m. to 3:00 p.m. The meeting is closed to the public.

Dated: May 8, 2020.
Natasha M. Copeland,
Deputy Director, Office of Federal Advisory Committee Policy.

[FR Doc. 2020-10281 Filed 5-12-20; 8:45 am]

BILLING CODE 4140-01-P